DEPARTMENT OF ENERGY

Federal Energy Regulatory Commission

[Docket No. RP03-449-001]

Panhandle Eastern Pipe Line Company, LLC; Notice of Compliance Filing

July 2, 2003.

Take notice that on June 30, 2003, Panhandle Eastern Pipe Line Company, LLC (Panhandle) tendered for filing as part of its FERC Gas Tariff, Second Revised Volume No. 1, the tariff sheets listed on Appendices A and B to the filing. The revised tariff sheets are proposed to be effective on June 23, 2003, and July 1, 2003, respectively.

Panhandle states that this filing is being made to comply with the Commission's Letter Order dated June 19, 2003, in Docket No. RP03-449-000.

Panhandle states that copies of this filing are being served on all affected shippers, applicable state regulatory agencies and parties to this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 14, 2003.

Magalie R. Salas,
Secretary.

[FR Doc. 03-18944 Filed 7-24-03; 8:45 am]

BILLING CODE 6717-01-P